ENVIRONMENTAL PROTECTION AGENCY

[EPA-HQ-OAR-2014-0128; FRL-9981-88-OAR]

Release of Risk and Exposure Assessment Plan for the Secondary National Ambient Air Quality Standard for Oxides of Nitrogen, Oxides of Sulfur and Particulate Matter

AGENCY: Environmental Protection Agency (EPA).

ACTION: Notice of availability.

SUMMARY: The Environmental Protection Agency (EPA) is conducting a periodic review of the air quality criteria and the secondary National Ambient Air Quality Standards (NAAQS) for oxides of nitrogen, oxides of sulfur, and particulate matter (PM). On or about August 6, 2018, the EPA will make available for public review the document titled Review of the Secondary National Ambient Air Quality Standards for Oxides of Nitrogen, Oxides of Sulfur and Particulate Matter: Risk and Exposure Assessment Planning Document (REA Planning Document). This plan presents considerations and the proposed approach for conducting quantitative analyses of oxides of nitrogen, oxides of sulfur, and PM exposures and welfare risks in this NAAQS review. This planning document is intended to facilitate consultation with the Clean Air Scientific Advisory Committee (CASAC) and public comment on plans for such quantitative analyses.

DATES: Comments should be received on or before October 22, 2018.

ADDRESSES: Submit your comments, identified by Docket ID No. EPA-HQ-OAR-2014-0128, to the Federal eRulemaking Portal: https://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud, or other file sharing system). For additional submission methods, the full EPA public comment policy, information about CBI or multimedia submissions, and general guidance on making effective comments, please visit https://www2.epa.gov/dockets/commenting-epa-dockets. The REA Planning Document will be available primarily via the internet at: https://www.epa.gov/naaqs/nitrogen-dioxide-no2-and-sulfur-dioxide-so2-secondary-standards-planning-documents-current.

FOR FURTHER INFORMATION CONTACT: Ginger Tennant, Office of Air Quality Planning and Standards (Mail Code C504-06), U.S. Environmental Protection Agency, Research Triangle Park, NC 27711; telephone number: 919-541-4072; fax number: 919-541-0237; or email address: tennant.ginger@epa.gov.

SUPPLEMENTARY INFORMATION:

I. General Information

A. What should I consider as I prepare my comments for the EPA?

1. Submitting CBI. Do not submit this information to EPA through https://www.regulations.gov or email. Clearly mark the part or all of the information that you claim to be CBI. For CBI information on any digital storage media that you mail to EPA, mark the outside of the digital storage media as CBI and then identify electronically within the digital storage media the specific information that is claimed as CBI. In addition to one complete version of the comment that includes information claimed as CBI, a copy of the comment that does not contain the information claimed as CBI must be submitted for inclusion in the public docket. If you submit any digital storage media that does not contain CBI, mark the outside of the digital storage media clearly that it does not contain CBI. Information so marked will not be disclosed except in accordance with procedures set forth in 40 Code of Federal Regulations (CFR) part 2. Send or deliver information identified as CBI only to the following address: OAQPS Document Control Officer (C404-02), OAQPS, U.S. Environmental Protection Agency, Research Triangle Park, North Carolina 27711, Attention Docket ID No. EPA-HQ-OAR-2014-0128.

2. Tips for Preparing your Comments. When submitting comments, remember to:

• Identify the notice by docket number and other identifying information (subject heading, Federal Register date and page number).

• Follow directions. The agency may ask you to respond to specific questions or organize comments by referencing a CFR part or section number.

• Explain why you agree or disagree; suggest alternative and substitute language for your requested changes.

• Describe any assumption and provide any technical information and/or data that you used.

• If you estimate potential costs or burdens, explain how you arrived at your estimate in sufficient detail to allow for it to be reproduced.

• Provide specific examples to illustrate your concerns and suggest alternatives.

• Explain your views as clearly as possible, avoiding the use of profanity or personal threats.

• Make sure to submit your comments by the comment period deadline identified.

II. Information About the Document

Two sections of the Clean Air Act (CAA) govern the establishment and revision of the NAAQS. Section 108 (42 U.S.C. 7408) directs the Administrator to identify and list certain air pollutants and then to issue air quality criteria for those pollutants. The Administrator is to list those air pollutants that in his “judgment, cause or contribute to air pollution which may reasonably be anticipated to endanger public health or welfare;” “the presence of which in the ambient air results from numerous or diverse mobile or stationary sources;” and “for which . . . [the Administrator] plans to issue air quality criteria. . . . ” Air quality criteria are intended to “accurately reflect the latest scientific knowledge useful in indicating the kind and extent of all identifiable effects on public health or welfare which may be expected from the presence of [a] pollutant in the ambient air . . . ” 42 U.S.C. 7408(b). Under section 109 (42 U.S.C. 7409), the EPA establishes primary (health-based) and secondary (welfare-based) NAAQS for pollutants for which air quality criteria are issued. Section 109(d) requires periodic review and, if appropriate, revision of existing air quality criteria. The revised air quality criteria reflect advances in scientific knowledge on the effects of the pollutant on public health or welfare. The EPA is also required to periodically review and, if appropriate, revise the NAAQS based on the revised criteria. Section 109(d)(2) requires that an independent scientific review committee “shall complete a review of the criteria . . . and the national primary and secondary ambient air quality standards . . . and shall recommend to the Administrator any new . . . standards and revisions of existing criteria and standards as may be appropriate. . . .” Since the early 1980's, this independent review function has been performed by CASAC.

Presently, the EPA is reviewing the secondary NAAQS for oxides of nitrogen, oxides of sulfur, and PM.¹ PM was added to this review after the draft Integrated Review Plan (80 FR 69220, November 9, 2015) was released to the public and reviewed by CASAC in recognition of linkages between these pollutants (oxides of nitrogen, oxides of sulfur, and PM) with respect to deposition and atmospheric chemistry, as well as from an environmental effects perspective. Additional welfare effects associated with PM, such as visibility, climate and materials effects, and the health effects of PM (including particulate transformation products of oxides of nitrogen and oxides of sulfur) are considered as part of the review of the NAAQS for PM (81 FR 87933, December 6, 2016). The health effects of oxides of nitrogen were considered in a separate assessment that was completed recently as part of the review of the primary (health-based) NAAQS for oxides of nitrogen (83 FR 17226, April 18, 2018). Similarly, the health effects of oxides of sulfur are currently being considered in a separate assessment as part of the review of the primary NAAQS for oxides of sulfur (83 FR 26752, June 8, 2018).

¹ The EPA's call for information for the NOX/SOX secondary review was issued on August 29, 2013 (78 FR 53452), and the call for information on the PM review (both secondary and primary) was issued on December 3, 2014 (79 FR 71764).

The EPA's overall plan for this review is presented in the Integrated Review Plan for the Secondary NAAQS for Oxides of Nitrogen, Oxides of Sulfur and Particulate Matter.² The REA Planning Document considers the degree to which important uncertainties identified in quantitative analyses from previous reviews have been addressed by newly available scientific evidence, tools, or information, including those in the second external review draft of the Integrated Science Assessment for Oxides of Nitrogen, Oxides of Sulfur and Particulate Matter-Ecological Criteria (83 FR 29786, June 26, 2018). Based on these considerations, the document reaches preliminary conclusions on the extent to which updated quantitative analyses of exposures or public welfare risks are warranted in the current review. For updated analyses that are supported, this planning document presents anticipated approaches to conducting such analyses. This document will be available on or about August 6, 2018, on the EPA's Technology Transfer Network website at https://www.epa.gov/naaqs/nitrogen-dioxide-no2-and-sulfur-dioxide-so2-secondary-standards-planning-documents-current.

² Available at https://www.epa.gov/naaqs/nitrogen-dioxide-no2-and-sulfur-dioxide-so2-secondary-standards-planning-documents-current.

The REA Planning Document will be discussed at a public meeting for review by CASAC and the public. A separate Federal Register notice provides details about this meeting and the process for participation (83 FR 31755, July 9, 2018). The EPA will also consider public comments on the REA Planning Document that are submitted to the docket, as described above.

Dated: August 2, 2018.
Panagiotis Tsirigotis,
Director, Office of Air Quality Planning and Standards.

[FR Doc. 2018-17041 Filed 8-21-18; 8:45 am]

BILLING CODE 6560-50-P